DEPARTMENT OF THE INTERIOR

National Park Service

[NPS-WASO-NRNHL-33363; PPWOCRAD10, PUC00RP14.R50000]

Notice of Public Meeting of the Cold War Advisory Committee; Cancellation

AGENCY: National Park Service, Interior.

ACTION: Notice; cancellation of meeting.

SUMMARY: The National Park Service gives notice that the Cold War Advisory Committee virtual meeting scheduled for Thursday, February 24, 2022, has been cancelled. The notice is in the Federal Register of Friday, November 19, 2021, in FR Doc. 2021-25299, in the first and second columns of page 64956.

FOR FURTHER INFORMATION CONTACT: Lisa P. Davidson, Ph.D., Program Manager, National Historic Landmarks Program, National Park Service, telephone at (202) 354-2179, or email lisa_davidson@nps.gov.

Authority: 5 U.S.C. appendix 2

Alma Ripps,
Chief, Office of Policy.

[FR Doc. 2022-03931 Filed 2-23-22; 8:45 am]

BILLING CODE 4312-52-P